INTERNATIONAL TRADE COMMISSION

[Investigation No. 337-TA-682]

Certain Collaborative System Products and Components Thereof; Notice of Commission Determination Not To Review an Initial Determination Granting Consent Motion To Terminate the Investigation Based on a Settlement Agreement; Termination of the Investigation

AGENCY: U.S. International Trade Commission.

ACTION: Notice.

SUMMARY: Notice is hereby given that the U.S. International Trade Commission has determined not to review an initial determination (“ID”) (Order No. 7) of the presiding administrative law judge (“ALJ”) granting a consent motion by complainant to terminate the investigation based on a settlement agreement with respondent.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E. Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On August 7, 2009, the Commission instituted an investigation under section 337 of the Tariff Act of 1930, as amended, 19 U.S.C. 1337, based on a complaint filed by eInstruction Corporation of Denton, Texas (“eInstruction”) on July 2, 2009, and supplemented on July 10, 2009 and July 23, 2009. 74 FR 39712 (Aug. 7, 2009). The complaint, as supplemented, alleged violations of section 337 in the importation into the United States, the sale for importation, or the sale within the United States after importation of certain collaborative system products and components thereof by reason of infringement of certain claims of United States Patent No. 6,930,673. The complaint named QOMO HiteVision, LLC of Wixom, Michigan as respondent.

On November 10, 2009, eInstruction filed a consent motion to terminate the investigation in its entirety based on a settlement agreement with Respondent. On November 19, 2009, the Commission investigative attorney filed a response in support of the consent motion to terminate the investigation.

On December 2, 2009, the ALJ issued Order No. 7 granting the consent motion to terminate the investigation. None of the parties petitioned for review of Order No. 7. The Commission has determined not to review the ID. Accordingly, this investigation is terminated.

The authority for the Commission's determination is contained in section 337 of the Tariff Act of 1930, as amended (19 U.S.C. 1337), and in section 210.42(h) of the Commission's Rules of Practice and Procedure (19 CFR 210.42(h)).

By order of the Commission.
Issued: December 16, 2009.
Marilyn R. Abbott,
Secretary to the Commission.

[FR Doc. E9-30333 Filed 12-21-09; 8:45 am]

BILLING CODE 7020-02-P